SMALL BUSINESS ADMINISTRATION

[Disaster Declaration #14958 and #14959]

Virginia Disaster Number VA-00065

AGENCY: U.S. Small Business Administration.

ACTION: Amendment 1.

SUMMARY: This is an amendment of the Presidential declaration of a major disaster for the Commonwealth of Virginia (FEMA-4291-DR), dated 11/02/2016.

Incident: Hurricane Matthew.

Incident Period: 10/07/2016 through 10/15/2016.

Effective Date: 11/14/2016.

Physical Loan Application Deadline Date: 01/03/2017.

EIDL Loan Application Deadline Date: 08/02/2017.

ADDRESSES: Submit completed loan applications to: U.S. Small Business Administration, Processing and Disbursement Center, 14925 Kingsport Road, Fort Worth, TX 76155.

FOR FURTHER INFORMATION CONTACT: A. Escobar, Office of Disaster Assistance, U.S. Small Business Administration, 409 3rd Street SW., Suite 6050, Washington, DC 20416.

SUPPLEMENTARY INFORMATION: The notice of the President's major disaster declaration for the State of VIRGINIA, dated 11/02/2016 is hereby amended to establish the incident period for this disaster as beginning 10/07/2016 and continuing through 10/15/2016.

All other information in the original declaration remains unchanged.

(Catalog of Federal Domestic Assistance Numbers 59002 and 59008)

James E. Rivera,
Associate Administrator for Disaster Assistance.

[FR Doc. 2016-27864 Filed 11-17-16; 8:45 am]

BILLING CODE 8025-01-P